DEPARTMENT OF ENERGY

Federal Energy Regulatory Commission

Combined Notice of Filings

Take notice that the Commission has received the following Natural Gas Pipeline Rate and Refund Report filings:

Docket Numbers: CP21-11-000.

Applicants: Transcontinental Gas Pipe Line Company, LLC.

Description: Application for Partial Abandonment of Service of Transcontinental Gas Pipe Line Company, LLC.

Filed Date: 11/16/20.

Accession Number: 20201116-5234.

Comments Due: 5 p.m. ET 12/7/20.

Docket Numbers: RP21-223-000.

Applicants: Tres Palacios Gas Storage LLC.

Description: § 4(d) Rate Filing: Tres Palacios Gas Storage LLC—Filing of Tariff Modifications to be effective 12/19/2020.

Filed Date: 11/18/20.

Accession Number: 20201118-5009.

Comments Due: 5 p.m. ET 11/30/20.

Docket Numbers: RP21-224-000.

Applicants: Trunkline Gas Company, LLC.

Description: § 4(d) Rate Filing: Quality Provision for Renewable Gas to be effective 12/19/2020.

Filed Date: 11/18/20.

Accession Number: 20201118-5025.

Comments Due: 5 p.m. ET 11/30/20.

Docket Numbers: RP21-225-000.

Applicants: Central Kentucky Transmission Company.

Description: Tariff Cancellation: CKY Request for Cancellation of its Tariff to be effective 12/1/2020.

Filed Date: 11/18/20.

Accession Number: 20201118-5042.

Comments Due: 5 p.m. ET 11/30/20.

Docket Numbers: RP21-226-000.

Applicants: Dominion Energy Overthrust Pipeline, LLC.

Description: § 4(d) Rate Filing: Non-conforming TSAs, Citadel K5613 Amendment No. 37 to be effective 11/14/2020.

Filed Date: 11/18/20.

Accession Number: 20201118-5068.

Comments Due: 5 p.m. ET 11/30/20.

Docket Numbers: RP21-227-000.

Applicants: Algonquin Gas Transmission, LLC.

Description: § 4(d) Rate Filing: Negotiated Rate—Yankee Gas 510802 Release eff 11-19-2020 to be effective 11/19/2020.

Filed Date: 11/18/20.

Accession Number: 20201118-5069.

Comments Due: 5 p.m. ET 11/30/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2020.
Kimberly D. Bose,
Secretary.

[FR Doc. 2020-26076 Filed 11-24-20; 8:45 am]

BILLING CODE 6717-01-P